DEPARTMENT OF TRANSPORTATION

National Highway Traffic Safety Administration

[DOT Docket No. NHTSA-2007-27204]

Reports, Forms and Recordkeeping Requirements Agency Information Collection Activity Under OMB Review

AGENCY: National Highway Traffic Safety Administration (NHTSA), U.S. Department of Transportation.

ACTION: Request for public comment on proposed collection of information.

SUMMARY: This notice solicits public comment on continuation of the requirements for the collection of information on brake hose manufacturers. Before a Federal agency can collect certain information from the public, it must receive approval from the Office of Management and Budget (OMB). Under procedures established by the Paperwork Reduction Act of 1995, before seeking approval, Federal agencies must solicit public comment on proposed collections of information, including extensions and reinstatement of previously approved collections. This document describes a collection of information associated with 49 CFR Part 571, Section 106, Brake Hoses.

DATES: Comments must be submitted on or before July 2, 2007.

ADDRESSES: Comments must refer to the docket notice number, NHTSA-2007-27204, and the OMB control number, 2127-0052, and be submitted to the Office of Information and Regulatory Affairs, Office of Management and Budge, Att'n Desk Officer for NHTSA, 725 17th St. NW., Washington DC 20503. It is requested, but not required, that 2 copies of the comments be provided.

Commenters may also, but are not required, to submit their comments to the DOT docket if they want their comments to appear in the DOT docket as well. Comments must refer to the docket notice number, NHTSA-2007-27204, and the OMB control number, 2127-0052, and be submitted to Docket Management, Room W12-140, West Building Ground Floor, 1200 New Jersey Avenue, SE, Washington, DC 20590. The telephone number for the Docket Management System is (800) 647-5527. It is requested, but not required, that two copies of the comments be provided. The Docket Section is open on weekdays from 10 a.m. to 5 p.m., except for Federal holidays. Alternatively, you may submit your comments electronically by logging on to the Docket Management System Web site at http://dms.dot.gov. Click on “Help and Information” or “Help/Info” to view instructions for filing your comments electronically. Regardless of how you submit your comments, refer to the docket number of this document.

FOR FURTHER INFORMATION CONTACT: Complete copies of each request for information collection may be obtained from Mr. Jeff Woods at the National Highway Traffic Safety Administration (NHTSA), Office of Crash Avoidance Standards, 202-366-6206. By mail: NVS-122, West Building, 1200 New Jersey Ave., SE., Washington, DC 20590.

SUPPLEMENTARY INFORMATION:

National Highway Traffic Safety Administration

Title: Brake Hose Manufacturing Identification, Federal Motor Vehicle Safety Standard (FMVSS) No. 106.

OMB Control Number: 2127-0052.

Type of Request: Request for public comment on a previously approved collection of information.

Abstract: Each manufacturer of brake hoses is required to register their manufacturing identification marks with NHTSA, in accordance with requirements in FMVSS No. 106, Brake Hoses. Manufacturer markings are typically put on motor vehicle brake hoses so that the manufacturer can be identified if a safety problem occurs with brake hoses installed on vehicles. Brake hose manufacturers register approximately 20 new identification marks each year, by submitting a request letter sent via U.S. mail, facsimile, or e-mail.

Affected Public: Business or other for-profit.

Estimated Total Annual Burden: 30 hours and $3,000.

Comments Are Invited On

• Whether the proposed collection of information is necessary for the proper performance of the functions of the Department, including whether the information will have practical utility.

• Whether the Department's estimate for the burden of the proposed information collection is accurate.

• Ways to minimize the burden of the collection of information on respondents, including the use of automated collection techniques or other forms of information technology.

A comment to OMB is most effective if OMB receives it within 30 days of publication. The agency published a Federal Register notice informing the public of its intent to renew this information collection on February 14, 2007 (72 FR 7113). No comments were received in response to that notice.

Issued on: May 29, 2007.
Stephen R. Kratzke,
Associate Administrator for Rulemaking.

[FR Doc. E7-10604 Filed 5-31-07; 8:45 am]

BILLING CODE 4910-59-P